DEPARTMENT OF THE INTERIOR

Geological Survey

[GX24EG32DW20300]

Agency Information Collection Activities; The National Map Corps (TNMCorps)—Volunteered Geographic Information Project

AGENCY: U.S. Geological Survey, Department of the Interior.

ACTION: Notice of information collection; request for comment.

SUMMARY: In accordance with the Paperwork Reduction Act of 1995 (PRA), the U.S. Geological Survey (USGS) is proposing to renew an information collection.

DATES: Interested persons are invited to submit comments on or before June 17, 2024.

ADDRESSES: Send your comments on this information collection request (ICR) by mail to USGS, Information Collections Clearance Officer, 12201 Sunrise Valley Drive, MS 159, Reston, VA 20192; or by email to gs-info_collections@usgs.gov. Please reference OMB Control Number 1028-0111 The National Map Corps (TNMCorps)—Volunteered Geographic Information Project in the subject line of your comments.

FOR FURTHER INFORMATION CONTACT: To request additional information about this ICR, contact Erin Korris by email at ekorris@usgs.gov, or by telephone at 303-202-4503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA (44 U.S.C. 3501 et seq.) and 5 CFR 1320.8(d)(1), and as part of our continuing effort to reduce paperwork and respondent burdens, we invite the public and other federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: The National Map Corps (TNMCorps) is the name of the U.S. Geological Survey (USGS) National Geospatial Program (NGP) project that encourages citizen participation in volunteer map data collection activities. TNMCorps uses crowdsourcing—new technologies and internet services to georeference and update structure points and related data and share this information with others on map-based internet platforms—to produce volunteered geographic information (VGI). People participating in the crowdsourcing are considered part of the TNMCorps.

In general, the National Structures Dataset (NSD) has been populated with the best available national data. This data has been exposed for initial improvement by TNMCorps volunteers via the online Map Editor (the instrument). In addition, the data goes through a tiered-editing process, which includes peer review and advanced editors. At each stage the data is passed through an automatic “magic filter” to look for data issues before being submitted into the NSD. In addition, data goes through sampling for quality assurance procedures.

Data within the NSD is available to the USGS as well as to the public at no cost via The National Map and US Topo.

Data quality studies in 2012, 2014, and 2018 showed that the volunteers' actions were accurate and exceeded USGS quality standards. Volunteer-collected data showed an improvement in both location and attribute accuracy for existing data points. Completeness, or the extent to which all appropriate features were identified and recorded, was also improved.

Title of Collection: The National Map Corps—Volunteered Geographic Information Project.

OMB Control Number: 1028-0111.

Form Number: None.

Type of Review: Renewal of a currently approved collection.

Respondents/Affected Public: General Public.

Total Estimated Number of Annual Respondents: 665.

Total Estimated Number of Annual Responses: 100,000.

Estimated Completion Time per Response: 12 minutes on average.

Total Estimated Number of Annual Burden Hours: 20,000 hours.

Respondent's Obligation: Voluntary.

Frequency of Collection: on occasion.

Total Estimated Annual Nonhour Burden Cost: None.

An agency may not conduct or sponsor, nor is a person required to respond to, a collection of information unless it displays a currently valid OMB control number.

The authority for this action is the PRA (44 U.S.C. 3501 et seq.).

Leslie D. Hansmann,
Supervisory Cartographer, Core Science Systems, USGS.

[FR Doc. 2024-08316 Filed 4-17-24; 8:45 am]

BILLING CODE 4338-11-P